DEPARTMENT OF LABOR

Employment and Training Administration

[TA-W-62,608]

Precision Magnetics, Division of Arnold Magnetics Technology, Wayne, NJ; Notice of Revised Determination on Reconsideration

On March 3, 2008, the Department issued an Affirmative Determination Regarding Application on Reconsideration applicable to workers and former workers of the subject firm. The notice was published in the Federal Register on March 11, 2008 (73 FR 13013).

The previous investigation initiated on December 27, 2007, resulted in a negative determination issued on February 4, 2008, was based on the finding that, during the relevant period, the subject firm did not shift production of magnetic components and assemblies to a foreign country and did not import magnetic components and assemblies. The determination also stated that the workers' separations were attributed to a domestic shift of production. The denial notice was published in the Federal Register on February 22, 2008 (73 FR 9836).

In the request for reconsideration, the petitioner provided additional information regarding production at the subject firm, imports and customers.

Upon further investigation the Department requested a list of customers from the subject firm. New information revealed that Precision Magnetics, Division of Arnold Magnetic Technologies, Wayne, New Jersey supplies component parts for machined housings and covers for gearboxes and generators produced by the primary firm, and at least 20 percent of its production or sales is supplied to a manufacturer whose workers were certified eligible to apply for adjustment assistance.

In accordance with section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of section 246 have been met.

A significant number of workers at the firm are age 50 or over and possess skills that are not easily transferable. Competitive conditions within the industry are adverse.

Conclusion

After careful review of the additional facts obtained on reconsideration, I determine that workers of Precision Magnetics, Division of Arnold Magnetic Technologies, Wayne, New Jersey qualify as adversely affected secondary workers under section 222 of the Trade Act of 1974, as amended. In accordance with the provisions of the Act, I make the following certification:

All workers of Precision Magnetics, Division of Arnold Magnetic Technologies, Wayne, New Jersey, who became totally or partially separated from employment on or after December 26, 2006, through two years from the date of this certification, are eligible to apply for adjustment assistance under Section 223 of the Trade Act of 1974, and are also eligible to apply for alternative trade adjustment assistance under Section 246 of the Trade Act of 1974.

Signed in Washington, DC, this 17th day of April 2008.
Elliott S. Kushner,
Certifying Officer, Division of Trade Adjustment Assistance.

[FR Doc. E8-8777 Filed 4-22-08; 8:45 am]

BILLING CODE 4510-FN-P